SECURITIES AND EXCHANGE COMMISSION

[File No. 500-1]

In the Matter of 99 Cent Stuff, Inc., Bizzingo, Inc., Clicker, Inc., Incentra Solutions, Inc., Maxray Optical Technology Co. Ltd., and Peer Review Mediation & Arbitration, Inc., Order of Suspension of Trading

January 22, 2016.

It appears to the Securities and Exchange Commission (“Commission”) that there is a lack of current and accurate information concerning the securities of 99 Cent Stuff, Inc. (“NNCT ¹”) (CIK No. 1176435), a dissolved Florida corporation located in Boca Raton, Florida with a class of securities registered with the Commission pursuant to Exchange Act Section 12(g) because it is delinquent in its periodic filings with the Commission, having not filed any periodic reports since it filed a Form 10-Q for the period ended June 30, 2006. On February 19, 2015, the Commission's Division of Corporation Finance (“Corporation Finance”) sent a delinquency letter to NNCT requesting compliance with its periodic filing requirements but NNCT did not receive the delinquency letter due to its failure to maintain a valid address on file with the Commission as required by Commission rules (Rule 301 of Regulation S-T, 17 CFR 232.301 and Section 5.4 of EDGAR Filer Manual). As of January 13, 2016, the common stock of NNCT was quoted on OTC Link operated by OTC Markets Group Inc. (formerly “Pink Sheets”) (“OTC Link”), had four market makers, and was eligible for the “piggyback” exception of Exchange Act Rule 15c2-11(f)(3).

¹ The short form of each issuer's name is also its stock symbol.

It appears to the Securities and Exchange Commission (“Commission”) that there is a lack of current and accurate information concerning the securities of Bizzingo, Inc. (“BIZZ”) (CIK No. 1359504), a defaulted Nevada corporation located in San Francisco, California with a class of securities registered with the Commission pursuant to Exchange Act Section 12(g) because it is delinquent in its periodic filings with the Commission, having not filed any periodic reports since it filed a Form 10-Q for the period ended August 31, 2012. On April 22, 2015, the Commission's Division of Corporation Finance (“Corporation Finance”) sent a delinquency letter to BIZZ requesting compliance with its periodic filing requirements but BIZZ did not receive the delinquency letter due to its failure to maintain a valid address on file with the Commission as required by Commission rules (Rule 301 of Regulation S-T, 17 CFR 232.301 and Section 5.4 of EDGAR Filer Manual). As of January 13, 2016, the common stock of BIZZ was quoted on OTC Link operated by OTC Markets Group Inc. (formerly “Pink Sheets”) (“OTC Link”), had six market makers, and was eligible for the “piggyback” exception of Exchange Act Rule 15c2-11(f)(3).

It appears to the Commission that there is a lack of current and accurate information concerning the securities of Clicker, Inc. (“CLKZ”) (CIK No. 1107998), a revoked Nevada corporation located in Bay Harbor Islands, Florida with a class of securities registered with the Commission pursuant to Exchange Act Section 12(g) because it is delinquent in its periodic filings with the Commission, having not filed any periodic reports since it filed a Form 10-Q for the period ended February 28, 2013. On April 22, 2015, Corporation Finance sent a delinquency letter to CLKZ requesting compliance with its periodic filing requirements but CLKZ did not receive the delinquency letter due to its failure to maintain a valid address on file with the Commission as required by Commission rules (Rule 301 of Regulation S-T, 17 CFR 232.301 and Section 5.4 of EDGAR Filer Manual). As of January 13, 2016, the common stock of CLKZ was quoted on OTC Link, had five market makers, and was eligible for the “piggyback” exception of Exchange Act Rule 15c2-11(f)(3).

It appears to the Commission that there is a lack of current and accurate information concerning the securities of Incentra Solutions, Inc. (“ICNSQ”) (CIK No. 1025707), a permanently revoked Nevada corporation located in Boulder, Colorado with a class of securities registered with the Commission pursuant to Exchange Act Section 12(g) because it is delinquent in its periodic filings with the Commission, having not filed any periodic reports since it filed a Form 10-Q for the period ended September 30, 2008.On April 28, 2015, Corporation Finance sent a delinquency letter to ICNSQ requesting compliance with its periodic filing requirements but ICNSQ did not receive the delinquency letter due to its failure to maintain a valid address on file with the Commission as required by Commission rules (Rule 301 of Regulation S-T, 17 CFR 232.301 and Section 5.4 of EDGAR Filer Manual). As of January 13, 2016, the common stock of ICNSQ was quoted on OTC Link, had six market makers, and was eligible for the “piggyback” exception of Exchange Act Rule 15c2-11(f)(3).

It appears to the Commission that there is a lack of current and accurate information concerning the securities of Maxray Optical Technology Co. Ltd. (“MXOP”) (CIK No. 1395695), a void Delaware corporation located in Mississauga, Ontario, Canada with a class of securities registered with the Commission pursuant to Exchange Act Section 12(g) because it is delinquent in its periodic filings with the Commission, having not filed any periodic reports since it filed a Form 10-Q for the period ended December 31, 2010. On April 28, 2015, Corporation Finance sent a delinquency letter to MXOP requesting compliance with its periodic filing requirements but MXOP did not receive the delinquency letter due to its failure to maintain a valid address on file with the Commission as required by Commission rules (Rule 301 of Regulation S-T, 17 CFR 232.301 and Section 5.4 of EDGAR Filer Manual). As of January 13, 2016, the common stock of MXOP was quoted on OTC Link, had four market makers, and was eligible for the “piggyback” exception of Exchange Act Rule 15c2-11(f)(3).

It appears to the Commission that there is a lack of current and accurate information concerning the securities of Peer Review Mediation & Arbitration, Inc. (“PRVW”) (CIK No. 1311627), a dissolved Florida corporation located in Pompano Beach, Florida with a class of securities registered with the Commission pursuant to Exchange Act Section 12(g) because it is delinquent in its periodic filings with the Commission, having not filed any periodic reports since it filed a Form 10-Q for the period ended September 30, 2012. On February 19, 2015, Corporation Finance sent a delinquency letter to PRVW requesting compliance with its periodic filing requirements but PRVW did not receive the delinquency letter due to its failure to maintain a valid address on file with the Commission as required by Commission rules (Rule 301 of Regulation S-T, 17 CFR 232.301 and Section 5.4 of EDGAR Filer Manual). As of January 13, 2016, the common stock of PRVW was quoted on OTC Link, had five market makers, and was eligible for the “piggyback” exception of Exchange Act Rule 15c2-11(f)(3).

The Commission is of the opinion that the public interest and the protection of investors require a suspension of trading in the securities of the above-listed companies. Therefore, it is ordered, pursuant to Section 12(k) of the Securities Exchange Act of 1934, that trading in the securities of the above-listed companies is suspended for the period from 9:30 a.m. EST on January 22, 2016, through 11:59 p.m. EST on February 4, 2016.

By the Commission.
Jill M. Peterson,
Assistant Secretary.

[FR Doc. 2016-01612 Filed 1-22-16; 11:15 am]

BILLING CODE 8011-01-P